DEPARTMENT OF HEALTH AND HUMAN SERVICES

Health Resources and Services Administration

Statement of Organization, Functions, and Delegations of Authority

This notice amends Part R of the Statement of Organization, Functions and Delegations of Authority of the Department of Health and Human Services (HHS), Health Resources and Services Administration (HRSA) (60 FR 56605, as amended November 6, 1995; as last amended at 87 FR 59105-59106 dated September 29, 2022).

This reorganization realigns functions within the HIV/AIDS Bureau (RV).

Chapter RV—HIV/AIDS Bureau

Section RV.10 Organization

The HIV/AIDS Bureau (RV) is headed by the Associate Administrator, who reports directly to the Administrator, HRSA. The HIV/AIDS Bureau includes the following components:

(1) Office of the Associate Administrator (RV);

(2) Office of Operations and Management (RV2);

(3) Division of Administrative Operations (RV21);

(4) Office of Program Support (RV3);

(5) Division of Policy and Data (RVA).

(6) Division of Metropolitan HIV/AIDS Programs (RV5);

(7) Division of State HIV/AIDS Programs (RVD); and

(8) Division of Community HIV/AIDS Programs (RV6).

Section RV.20 Function

Delete the functional statement for the Office of the Associate Administrator (RV), Office of Operations and Management (RV2), Division of Administrative Operations (RV21) and Office of Program Support (RV3) in its entirety and replace with the following:

Office of the Associate Administrator (RV)

The Office of the Associate Administrator provides leadership and direction for the HIV/AIDS programs and activities of the Bureau and oversees its relationship with other national health programs. Specifically, the Office (1) promotes the implementation of the National HIV/AIDS Strategy within the agency and among agency-funded programs; (2) coordinates the formulation of an overall strategy and policy for programs established by Title XXVI of the Public Health Service Act as amended by the Ryan White HIV/AIDS Treatment Extension Act of 2009, Public Law 111-87; (3) coordinates internal functions of the Bureau and its relationships with other agency bureaus and offices; (4) establishes HIV/AIDS program objectives, alternatives, and policy positions consistent with broad Administration guidelines; (5) provides leadership for and oversight of the Bureau's budgetary development and implementation processes; (6) provides clinical leadership to Ryan White-funded programs; (7) serves as a principal contact and advisor to the Department and other parties on matters pertaining to the planning and development of HIV/AIDS-related health delivery systems; (8) reviews HIV/AIDS-related program activities to determine their consistency with established policies; (9) develops and oversees operating policies and procedures for the Bureau; (10) oversees and directs the planning, implementation, and evaluation of special studies related to HIV/AIDS and public health within the Bureau; (11) prioritizes technical assistance (TA) needs in consultation with each division/office; (12) plans, implements, and evaluates the Bureau's national TA resource training center website and other distance learning modalities; (13) represents the agency in HIV/AIDS related conferences, consultations, and meetings with other Operating Divisions, Office of the Assistant Secretary for Health, and the White House; (14) plans, implements and evaluates HIV/AIDS Bureau staff development and education to enable employees to meet the mission of the Bureau; (15) provides support with the implementation of staff development, organizational development and training activities; and (16) plans, develops, implements, and evaluates the Bureau's organizational and staff development and staff training activities inclusive of guiding action steps addressing annual Employee Viewpoint Survey results.

Office of Operations and Management (RV2)

The Office of Operations and Management provides expertise, guidance, leadership, and support in the areas of general administration, fiscal operations, and contract administration. Specifically, the Office (1) provides direction on all budgetary, administrative, human resources, operations, facility management, and contracting functions for the HIV/AIDS Bureau; (2) oversees and coordinates all Bureau program integrity activities; (3) oversees Bureau Executive Secretariat functions and coordinates HRSA responses and comments on HIV/AIDS-related reports, position papers, guidance documents, correspondence, and related issues, including Freedom of Information Act requests; and (4) supports enterprise information technology systems development to improve program efficiencies and management.

Division of Administrative Operations (RV21)

The Division of Administrative Operations is responsible for the administrative, human resources operations, facility management, and contracting functions for the Bureau.

Office of Program Support (RV3)

The Office of Program Support provides expertise, guidance, leadership, and support in the areas of organizational development, communications, fiscal oversight, grants policy, training and TA to the Bureau staff and grant recipients, and customer service to support program implementation. Specifically, the Office of Program Support (1) coordinates grants management and grants policy for the Bureau, including grants liaison functions; (2) supports training and TA for grant recipients through the AIDS Education and Training Centers (AETCs), TA contracts, and other TA initiatives; (3) streamlines communications, clearance activities, and development of consistent, quality presentations; (4) improves the Bureau's external facing communication efforts; (5) facilitates transparency in sharing the Bureau's data using internal and external resources; (6) coordinates the development and distribution of all Bureau communication activities, materials, and products internally and externally; (7) supports fiscal oversight and TA to grant recipients; (8) serves as the Bureau's primary liaison with the HRSA Office of Federal Assistance Management (OFAM); (9) provides statutory and programmatic coordination, guidance, and expertise on grants and fiscal compliance to funded programs and Bureau staff; (10) identifies and develops resources to sustain statutory, programmatic and fiscal compliance of funded programs; (11) coordinates with OFAM for grants processes; (12) coordinates with OFAM for fiscal oversight and compliance; (13) coordinates grant recipient site visits and site specific consultations; (14) supports grant recipients in meeting project goals and deliverables related to fiscal compliance and grants policy; (15) develops grant recipients training and TA plans related to fiscal compliance and grants policy; (16) leads distance learning opportunities; and (17) is responsible for activities associated with the planning, development, implementation, evaluation, and coordination of the HIV/AIDS Education and Training Center Program.

Section RV.30 Delegation of Authority

All delegations of authority and re-delegations of authority made to officials and employees of affected organizational components will continue in them or their successors pending further redelegation, if allowed, provided they are consistent with this reorganization.

This reorganization is effective upon date of signature.

(Authority: 44 U.S.C. 3101).

Carole Johnson,
Administrator.

[FR Doc. 2023-03254 Filed 2-15-23; 8:45 am]

BILLING CODE 4165-15-P